DEPARTMENT OF STATE

[Public Notice 3973]

Bureau of Educational and Cultural Affairs Request for Grant Proposals: Youth Leadership Program for Bosnia and Herzegovina

SUMMARY: The Office of Citizen Exchanges, Youth Programs Division, of the Bureau of Educational and Cultural Affairs announces an open competition for Youth Leadership Program for Bosnia and Herzegovina. Public and private non-profit organizations meeting the provisions described in Internal Revenue Code section 26 USC 501(c)(3) may submit proposals to conduct a three-week program in the United States focusing on leadership and civic education. The 22 participants will be secondary school students and teachers from Bosnia and Herzegovina. Funding will be provided through the Support for East European Democracy (SEED) Act.

Program Information

Overview: The goals of this program are: (1) To provide a civic education program that helps the participants understand civic participation and the rights and responsibilities of citizens in a democracy; (2) to develop leadership skills among secondary school students appropriate to their needs; and (3) to build personal relationships among high school students and teachers from Bosnia-Herzegovina and the United States.

Applicants should outline their capacity for doing projects of this nature, focusing on three areas of competency: provision of leadership and civic education programming, age-appropriate programming for youth, and work with individuals from Bosnia-Herzegovina or other areas that have experienced ethnic conflict. Applicants need not have a partner in Bosnia and Herzegovina, as the Office of Public Affairs (OPA) of the U.S. Embassy in Sarajevo will recruit and select the participants and provide a pre-departure orientation. The participants will be recruited from the cities in the Federation and in Republika Srpska, with the exception of Foca and Pale, and the Brcko District.

Guidelines: Grants should begin in August 2002 and conclude approximately 16 months later, depending on when the applicant proposes to conduct follow-on activities. The program should be implemented in June/July 2003. Participants may arrive in the United States around June 15, 2003. The timing of the project may be altered through the mutual agreement of the Department of State and the grant recipient. The program should be approximately three weeks in duration.

The participants will be 18 high school students between the ages of 15 and 18 who have demonstrated leadership abilities in their schools and/or communities and who are high academic achievers, and four teachers or other adults who work with youth who have demonstrated leadership and are expected to remain in positions where they can continue to do so. Participants will be proficient in the English language.

In pursuit of the goals outlined above, the program will include the following:

• A welcome orientation.

• Design and planning of activities that provide a substantive program on civic education and leadership through both academic and extracurricular components. Activities should take place in schools as much as possible and in the community. Community service and computer training will also be included. Programming should involve American participants wherever possible.

• Opportunities for the educators to work with their American peers and other professionals and volunteers to help them foster youth leadership, civic education, and community service programs at home.

• Logistical arrangements, homestays, disbursement of stipends/per diem, local travel, and travel between sites.

• A closing session to summarize the project's activities and prepare participants for their return home.

• Follow-on activities in Bosnia and Herzegovina after the participants have returned home designed to reinforce values and skills imparted during the U.S. program.

The proposal must demonstrate how the stated objectives will be met. The proposal narrative should also provide detailed information on the major program activities. Additional important program information and guidelines for preparing the narrative are included in the Project Objectives, Goals, and Implementation (POGI).

Programs must comply with J-1 visa regulations. Please refer to the other documents in the solicitation for further information.

Budget Guidelines

The Bureau anticipates awarding one grant in an amount of approximately $82,000 to support program and administrative costs required to implement this program. Organizations with less than four years of experience in conducting international exchange programs are not eligible for this competition. The Bureau encourages applicants to provide maximum levels of cost-sharing and funding from private sources in support of its programs.

Applicants must submit a comprehensive budget for the entire program. There must be a summary budget as well as breakdowns reflecting both administrative and program budgets. Applicants may provide separate sub-budgets for each program component, phase, location, or activity to provide clarification.

Please refer to the Solicitation Package for complete budget guidelines and formatting instructions.

Announcement Title and Number: All correspondence with the Bureau concerning this RFGP should reference the above title and number ECA/PE/C/PY-02-72.

FOR FURTHER INFORMATION, CONTACT: The Youth Programs Division, ECA/PE/C/PY, Room 568, U.S. Department of State, 301 4th Street, SW., Washington, DC. 20547, telephone (202) 619-6299; fax (202) 619-5311; e-mail address: clantz@pd.state.gov to request a Solicitation Package. The Solicitation Package contains detailed award criteria, required application forms, specific budget instructions, and standard guidelines for proposal preparation. Please specify Bureau Program Officer Carolyn Lantz on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals

All proposal copies must be received at the Bureau of Educational and Cultural Affairs by 5:00 p.m. Washington, DC time on Friday, May 31, 2002. Faxed documents will not be accepted at any time. Documents postmarked the due date but received on a later date will not be accepted.

Each applicant must ensure that the proposals are received by the above deadline.

Applicants must follow all instructions in the Solicitation Package. The original and six copies of the application should be sent to: U.S. Department of State, SA-44, Bureau of Educational and Cultural Affairs, Ref.: ECA/PE/C/PY-02-72, Program Management, ECA/EX/PM, Room 534, 301 4th Street, SW., Washington, DC 20547.

No later than one week after the competition deadline, applicants must also submit the Executive Summary and Proposal Narrative sections of the proposal as e-mail attachments in MicrosoftWord (preferred), WordPerfect, or as ASCII text files, and the Budget as a Microsoft Excel file, if possible, to the following e-mail address: clantz@pd.state.gov. In the e-mail message subject line, include the following: ECA/PE/C/PY-02-72. To reduce the time needed to obtain advisory comments from the Office of Public Affairs at the U.S. Embassy in Sarajevo, the Bureau will transmit these files electronically to these offices.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards (grants) resides with the Bureau's Grants Officer.

Review Criteria

Technically eligible applications will be competitively reviewed according to the criteria stated below. These criteria are not rank ordered and all carry equal weight in the proposal evaluation:

1. Quality of the program idea: The proposed program should be well developed, respond to design outlined in the solicitation, and demonstrate originality. It should be clearly and accurately written, substantive, and with sufficient detail. Proposals should exhibit originality, substance, precision, and relevance to the Bureau's mission.

2. Program planning: A detailed agenda and work plan should clearly demonstrate how project objectives would be achieved. The agenda and plan should adhere to the program overview and guidelines described above. The substance of workshops, seminars, presentations, school-based activities, and/or site visits should be described in detail.

3. Ability to achieve program objectives: Objectives should be reasonable, feasible, and flexible. The proposal should clearly demonstrate how the institution will meet the program's objectives and plan.

4. Support of diversity: The proposal should demonstrate the recipient's commitment to promoting the awareness and understanding of diversity in program content. Applicants should demonstrate readiness to accommodate participants with physical disabilities.

5. Institutional capacity and track record: Proposed personnel and institutional resources should be adequate and appropriate to achieve the program goals. The proposal should demonstrate an institutional record, including responsible fiscal management and full compliance with all reporting requirements for past Bureau grants as determined by the Bureau's Office of Contracts. The Bureau will consider the past performance.

6. Cross-cultural sensitivity and area expertise: Since a number of young people in this region have been through considerable trauma during recent conflicts, it is essential that the applicant organization staff demonstrate an understanding of the stress and tensions that many of the participants are likely to have.

7. Follow-on activities: Proposals should provide a plan for a Bureau-supported follow-on visit by project staff to Bosnia and Herzegovina, plus a plan for continued follow-on activity, not necessarily with Bureau support, that insures that this program is not an isolated event.

8. Project evaluation: The proposal should include a plan to evaluate the activity's success, both as the activities unfold and at the end of the program. The proposal should include a draft survey questionnaire or other technique plus description of a methodology to use to link outcomes to original project objectives. The grant recipient will be expected to submit intermediate reports after each project component is concluded.

9. Cost-effectiveness and cost sharing: The applicant should demonstrate efficient use of Bureau funds. The overhead and administrative components of the proposal, including salaries and honoraria, should be kept as low as possible. All other items should be necessary and appropriate. The proposal should maximize cost-sharing through other private sector support as well as institutional direct funding contributions.

10. Value to U.S.-Bosnia and Herzegovina Relations: The proposed project should receive positive assessments by the U.S. Department of State's geographic area desk and overseas officers of program need, potential impact, and significance in Bosnia and Herzegovina.

Authority

Overall grant making authority for this program is contained in the Mutual Educational and Cultural Exchange Act of 1961, Public Law 87-256, as amended, also known as the Fulbright-Hays Act. The purpose of the Act is “to enable the Government of the United States to increase mutual understanding between the people of the United States and the people of other countries...; to strengthen the ties which unite us with other nations by demonstrating the educational and cultural interests, developments, and achievements of the people of the United States and other nations...and thus to assist in the development of friendly, sympathetic and peaceful relations between the United States and the other countries of the world.” The funding authority for the program is provided through Support for East European Democracy (SEED) legislation.

Lautenberg Waiver Language for FY02 Republika Srpska and Serbia

Section 581 of the FOAA restricts certain bilateral assistance to any country, entity or municipality whose competent authorities have failed to take “necessary and significant steps to implement its international legal obligations to apprehend and transfer to the International Criminal Tribunal for the Former Yugoslavia (the ‘Tribunal’) all persons in their territory who have been publicly indicted by the Tribunal and to otherwise cooperate with the Tribunal.” Deputy Secretary Armitage determined on February 22, 2002, that the Republika Srpska and Serbia had failed to meet this standard and are subject to sanctions.

Section 581(e), however, provides that restrictions on assistance may be waived upon a determination by the Secretary that “such assistance directly supports the implementation of the Dayton Accords.” Department of State Delegation of Authority 245 authorizes the Deputy Secretary to make this determination on behalf of the Secretary. The Deputy Secretary waived the application of Section 581 of the FOAA with regard to the following U.S. bilateral assistance programs, among others, in the Republika Srpska and Serbia:

Programs that support professional and student exchanges, student advising, Democracy Commission grants, civic education programs, media and information technology training, English teaching, linkages with U.S. universities and faculties, and civic education programs, as well as translations of economic, legal and political science texts;

The municipalities of Foca and Pale in the Republika Srpska are excluded from this waiver, because competent authorities have failed to take necessary and significant steps to apprehend and transfer war crimes indictees to the International Criminal Tribunal for the Former Yugoslavia.

The U.S. government will not provide bilateral assistance that specifically benefits these municipalities.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 3, 2002.
Patricia S. Harrison,
Assistant Secretary for Educational and Cultural Affairs, Department of State.

[FR Doc. 02-8832 Filed 4-10-02; 8:45 am]

BILLING CODE 4710-05-P